DEPARTMENT OF COMMERCE

National Oceanic and Atmospheric Administration

Hydrographic Services Review Panel Meeting

AGENCY: National Ocean Service, National Oceanic and Atmospheric Administration (NOAA), Department of Commerce.

ACTION: Notice of open public meeting.

SUMMARY: The Hydrographic Services Review Panel (HSRP) will hold a meeting that will be open to the public and public comments are requested in advance and/or during the meeting. Information about the HSRP meeting, agenda, presentations, webinar registration, and other background documents will be posted online at: https://www.nauticalcharts.noaa.gov/hsrp/hsrp.htm and https://www.nauticalcharts.noaa.gov/hsrp/meetings.htm

Date and Location: The meeting is planned for two and a half days during August 27-29, 2019, in New Orleans, LA. The agenda, speakers and times are subject to change. The agenda and location will be posted online at the end of June 2019. For updates, please check online at: https://www.nauticalcharts.noaa.gov/hsrp/hsrp.htm. To receive notice of the venue and meeting announcements by email, and to inform the participant list, please email your name, organization and email address to: Virginia.Dentler@noaa.gov and Lynne.Mersfelder@noaa.gov.

FOR FURTHER INFORMATION CONTACT: Lynne Mersfelder-Lewis, HSRP program manager, National Ocean Service, Office of Coast Survey, NOAA (N/CS), 1315 East-West Highway, SSMC3 #6413, Silver Spring, Maryland 20910; email: Lynne.Mersfelder@noaa.gov and Virginia.Dentler@noaa.gov.

SUPPLEMENTARY INFORMATION: While the meeting is open to the public, to receive meeting updates and inform the participant list, please email your name, organization and email address to: Virginia.Dentler@noaa.gov and Lynne.Mersfelder@noaa.gov. Seating will be available on a first-come, first-served basis. Public comment is encouraged on the topics of the HSRP meeting and there are public comment periods scheduled each day noted in the agenda. Each individual or group making verbal or written comments will be limited to one comment per day and a total time of five (5) minutes, will be noted, recorded, and this will become part of the meeting record. For those not onsite, comments can be submitted in writing via the webinar chat function during the meeting or with a letter in writing via email prior to the meeting. Public comments are encouraged and individuals or groups who would like to submit advance written statements should email their comments to Lynne.Mersfelder@noaa.gov, Virginia.Dentler@noaa.gov and hydrographic.services@noaa.gov. The HSRP will provide webinar capability. Pre-registration is required to access the webinar: https://attendee.gotowebinar.com/register/7384771285594719747.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. The charter and other information are located online at: https://www.nauticalcharts.noaa.gov/hsrp/CharterBylawsHSIAStatute.htm

Past recommendations and issue papers are at: https://www.nauticalcharts.noaa.gov/hsrp/recommendations.htm

Past HSRP public meeting summary reports, agendas, presentations, transcripts, and other information is available online at: https://www.nauticalcharts.noaa.gov/hsrp/meetings.htm

Matters to be Considered: The panel is convening on issues relevant to NOAA's navigation services, focusing on national issues such as stakeholder use of navigation services data, sea level rise and inundation, and legislative priorities. Navigation services include the data, products, and services provided by the NOAA programs and activities that undertake geodetic observations, gravity modeling, shoreline mapping, bathymetric mapping, hydrographic surveying, nautical charting, tide and water level observations, current observations, and marine modeling. This suite of NOAA products and services support safe and efficient navigation, resilient coasts and communities, and the nationwide positioning information infrastructure to support America's commerce. The Panel will hear from state and federal agencies, non-federal organizations and associations, local, regional and national stakeholders and partners about their missions and use of NOAA's navigation services, the value these services bring, and what improvements could be made. Other administrative matters may be considered. The agenda and speakers are subject to change.

Special Accommodations: This meeting is physically accessible to people with disabilities. Please direct requests for sign language interpretation or other auxiliary aids to Lynne.Mersfelder@noaa.gov by August 12, 2019.

Dated: April 2, 2019.
Shepard M. Smith,
Director, Office of Coast Survey, National Ocean Service, National Oceanic and Atmospheric Administration.

[FR Doc. 2019-08661 Filed 4-29-19; 8:45 am]

BILLING CODE 3510-JE-P